DEPARTMENT OF HEALTH AND HUMAN SERVICES

Centers for Disease Control and Prevention

Prospective Grant of Exclusive License: Prophylactic Use of Pneumococcal Surface Adhesin A Protein as a Vaccine

AGENCY: Office of Technology Transfer; Centers for Disease Control and Prevention (CDC); Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide, limited field of use, exclusive license to practice the inventions embodied in the patent and patent applications referred to below to Intercell, having a place of business in Vienna, Austria. The patent rights in these inventions have been assigned to the government of the United States of America. The patent and patent applications to the licensed are: U.S. Patent No. 5,422,427 entitled “Pneumococcal Fimbrial Protein A,” issued 06.06.95.

U.S. Patent No. 6,312,944 entitled “Pneumococcal Fimbrial Protein A,” issued 11.06.01.

U.S. Patent No. 5,854,416 entitled “Streptococcus pneumoniae 37-kDa Surface Adhesin A Protein and Nucleic Acids Coding Therefore,” issued 12.29.98 (CDC Ref: E-157-91/4).

U.S. Patent No. 6,217,884 entitled “Streptococcus pneumoniae 37-kDa Surface Adhesin A Protein,” issued 04.17.01.

U.S. Patent No. 6,773,880 entitled “Streptococcus pneumoniae 37-kDa Surface Adhesin A Protein,” issued 06.05.03.

The prospective exclusive license will be royalty-bearing and will comply with the terms and conditions of 35 U.S.C. 209 and 37 CFR 404.7.

ADDRESSES: Requests for a copy of these patent applications, inquiries, comments, and other materials relating to the contemplated license should be directed to Thomas E. O'Toole, MPH, Chief Licensing Officer, Technology Transfer Office, Centers for Disease Control and Prevention (CDC), 4770 Buford Highway, Mailstop K-79, Atlanta, GA 30341, telephone: (770) 488-8600; facsimile: (770) 488-8615. Applications for a license filed in response to this notice will be treated as objections to the grant of the contemplated license. Only written comments and/or applications for a license which are received by CDC within thirty days of this notice will be considered. Comments and objections submitted in response to this notice will not be made available for public inspection, and, to the extent permitted by law, will not be released under the Freedom of Information Act, 5 U.S.C. 552. A signed Confidential Disclosure Agreement will be required to receive a copy of any pending patent application.

Dated: August 21, 2006.
James D. Seligman,
Chief Information Officer, Centers for Disease Control and Prevention.

[FR Doc. E6-14423 Filed 8-29-06; 8:45 am]

BILLING CODE 4163-18-P